DEPARTMENT OF COMMERCE

National Institute of Standards and Technology

Announcement of a Workshop on Privilege (Access) Management

AGENCY: National Institute of Standards and Technology.

ACTION: Notice of public workshop.

SUMMARY: The National Institute of Standards and Technology (NIST), in conjunction with the National Security Agency, will hold a public workshop on September 1-3, 2009, at the NIST Gaithersburg campus. The workshop is open to the public but requires registration and an attendance fee. The goal of this workshop is to have the workshop serve as the first step towards the development of a Special Publication on Privilege (Access) Management. A four-pronged approach will be taken to create a suite of definitions for Privilege (Access) Management, create standard models and frameworks for the U.S. Government, based on ITU-T X.812, create a statement on technology and needed research, and to document scenarios and policy considerations. There will be subsequent workshops to further develop and refine the content of this draft Special Publication.

DATES: The workshop will be held on September 1-2, 2009, 9 a.m. till 5 p.m.; and September 3, 2009, 9 a.m. till 12:30 p.m.

ADDRESSES: The workshop will be held in the Green Auditorium of the Administration Building on the NIST Gaithersburg campus, 100 Bureau Drive, Gaithersburg, Maryland 20899. Please note registration and admittance instructions under the SUPPLEMENTARY INFORMATION section of this notice.

FOR FURTHER INFORMATION CONTACT: Tanya Brewer, T: (301) 975-4534, E: tbrewer@nist.gov.

SUPPLEMENTARY INFORMATION: The National Institute of Standards and Technology (NIST), in conjunction with the National Security Agency, will hold a public workshop on September 1-3, 2009, at the NIST Gaithersburg campus. The workshop is open to the public but requires registration and an attendance fee. The goal of this workshop is to have the workshop serve as the first step towards the development of a Special Publication on Privilege (Access) Management. A four-pronged approach will be taken to create a suite of definitions for Privilege (Access) Management, create standard models and frameworks for the U.S. Government, based on ITU-T X.812, create a statement on technology and needed research, and to document scenarios and policy considerations. There will be subsequent workshops to further develop and refine the content of this draft Special Publication.

This workshop is open to the public, but requires registration in advance. Registration fee is $160, and includes lunch for the first two days. Please register online at http://www.nist.gov/public_affairs/confpage/conflist.htm. The registration deadline is August 25, 2009. A forthcoming URL with agenda and materials will be linked from the registration site.

All visitors to the NIST campus are required to register in advance. No late or same-day registrations will be accepted for this reason. All attendees must present a government-issued ID when gaining access to the campus.

Dated: June 9, 2009.
Patrick Gallagher,
Deputy Director.

[FR Doc. E9-14141 Filed 6-15-09; 8:45 am]

BILLING CODE 3510-13-P